INTERNATIONAL TRADE COMMISSION

[Inv. No. 337-TA-466]

In the Matter of Certain Organizer Racks and Products Containing Same; Notice of Commission Decision Not To Review an Initial Determination Terminating the Investigation on the Basis of a Settlement Agreement

AGENCY: International Trade Commission.

ACTION: Notice.

SUMMARY: Notice is hereby given that the U.S. International Trade Commission has determined not to review the presiding administrative law judge's (“ALJ's”) initial determination (“ID”) terminating the above-captioned investigation on the basis of a settlement agreement.

FOR FURTHER INFORMATION CONTACT: Tim Yaworski, Esq., Office of the General Counsel, U.S. International Trade Commission, 500 E Street, SW., Washington, DC 20436, telephone (202) 2053096. Copies of the public versions of the ID and all other nonconfidential documents in the record of this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on December 26, 2001, based on a complaint filed by Spectrum Concepts, Inc. (“Spectrum”) against Bryan Plastics Ltd. (“Bryan”). The complaint alleged violations of section 337 of the Tariff Act of 1930 in the importation into the United States, sale for importation, and/or sale within the United States after importations, of certain organizer racks or products containing same by reason of infringement of claims, 1, 6, 8, 11, 12, 13, and 24 of U.S. Letters Patent 5,740,924. 66 FR 66425 (2001)

On February 1, 2002, Spectrum filed a motion to terminate the investigation on the basis of a settlement agreement. On February 12, 2002, the Commission investigative attorney filed a response supporting the motion. On February 13, 2002, the presiding ALJ issued an ID (Order No. 6) granting the motion and, on February 19, 2002, issued another ID (Order No. 7) with an erratum, providing additional reasoning in support of his granting of the motion. No party petitioned for review of the ID. This action is taken under the authority of section 337 of the Tariff Act of 1930 (19 U.S.C. 1337) and section 210.42 of the Commission's Rules of Practice and Procedure (19 CFR 210.42).

Issued: April 4, 2002.
By order of the Commission.
Marilyn R. Abbott,
Secretary.

[FR Doc. 02-9232 Filed 4-15-02; 8:45 am]

BILLING CODE 7020-02-P